DEPARTMENT OF DEFENSE

Department of the Army

Performance Review Board Membership

AGENCY: Department of the Army, DoD.

ACTION: Notice.

SUMMARY: Notice is given of the names of members of a newly established Performance Review Board for the Department of the Army. These members are fully committed to full enforcement of SES performance evaluations that promote and assure an SES of the highest caliber. This notice supersedes all previous notices of the PRB membership.

DATES: Applicable May 29, 2025.

FOR FURTHER INFORMATION CONTACT: Barbara Smith, Civilian Senior Leader Management Office, 111 Army Pentagon, Washington, DC 20310-0111, email: Barbara.M.Smith.civ@army.mil: (703) 693-1126.

SUPPLEMENTARY INFORMATION: Section 4314(c)(1) through (5) of title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Mr. Derrick Anderson, Principal Deputy Assistant Secretary of the Army (Manpower and Reserve Affairs)

2. Mr. Stephen Austin, Assistant Chief of the Army Reserve, Office of the Chief of the Army Reserve

3. Mr. Peter Bechtel, Assistant Deputy Chief of Staff, G-3/5/7, Deputy Chief of Staff, G-3/5/7

4. Ms. Karen Durham-Aguilera, Executive Director, U.S. Army National Cemeteries

5. Mr. Richard De Fatta, Deputy to the Commander, U.S. Army Space and Missile Defense Command/Army Forces Strategic Command

6. Mr. Michael Formica, Executive Deputy to the Commander, U.S. Army Training and Doctrine Command

7. Mr. D. Lee Forsgren, Principal Deputy Assistant Secretary of the Army (Civil Works), Office of the Assistant Secretary of the Army (Civil Works)

8. Mr. Leonel Garciga, Chief Information Officer, CIO

9. Ms. Candice Kinn, Principal Deputy Assistant Secretary of the Army (Financial Management and Comptroller), Office of the Assistant Secretary of the Army (Financial Management and Comptroller)

10. Mr. Daniel Klippstein, Assistant Deputy Chief of Staff, G-9, Office of the Deputy Chief of Staff, G-9

11. Mr. David Markowitz, Chief Data Officer and Analytics Officer, Office of the Chief Information Officer

12. Mr. Bruce B Miller, The Auditor General, U.S. Army Audit Agency

13. Mr. J. Randall Robinson, Executive Deputy to the Commanding General, U.S. Army Installations Management Command

14. Mr. Matthew Sannito, Assistant Deputy Chief of Staff, Logistics, Office of the Deputy Chief of Staff, G-4

15. Mr. Bryan Shone, Assistant Deputy Chief of Staff, G-8, Office of the Deputy Chief of Staff, G-8

16. Mr. Jesse Tolleson, Principal Deputy Assistant Secretary of the Army (Acquisitions, Logistics and Technology), Office of the Assistant Secretary of the Army (Acquisitions, Logistics and Technology)

17. Dr. Jeff Waksman, Principal Deputy Assistant Secretary of the Army (Installations, Energy and Environment), Office of the Assistant Secretary of the Army (Installations, Energy and Environment)

18. Mr. Roy Wallace, Assistant Deputy Chief of Staff, G-1, Office of the Deputy Chief of Staff, G-1

19. Ms. Angel Wolfrey, Director, Civilian Senior Leader Management Office, Deputy Under Secretary of the Army

James W. Satterwhite Jr.,
Army Federal Register Liaison Officer.

[FR Doc. 2025-10260 Filed 6-4-25; 8:45 am]

BILLING CODE 3711-CC-P